SMALL BUSINESS ADMINISTRATION

[License No. 04/04-0333]

Notice Seeking Exemption Under Section 312 of the Small Business Investment Act, Conflicts of Interest; Five Points Mezzanine Fund III, L.P.

Notice is hereby given that Five Points Mezzanine Fund III, L.P., 101 N. Cherry Street, Winston-Salem, NC 27101, a Federal Licensee under the Small Business Investment Act of 1958, as amended (“the Act”), in connection with the financing of a small concern, has sought an exemption under Section 312 of the Act and Section 107.730, Financings which Constitute Conflicts of Interest of the U.S. Small Business Administration (“SBA”) Rules and Regulations (13 CFR 107.730). Five Points Mezzanine Fund III, L.P. proposes to purchase its pro rata share of a recent debt financing from BMO Harris Bank, N.A. in Welcome Dairy Holdings, LLC, 225567 Silver Maple Lane, Colby, WI.

The financing is brought within the purview of § 107.730(a) and (d) of the Regulations because RCP Advisors, an Associate of Five Points Mezzanine Fund III, L.P., indirectly owns more than ten percent of Welcome Dairy Holdings, LLC, and therefore this transaction is considered a financing of an Associate requiring prior SBA approval.

Notice is hereby given that any interested person may submit written comments on the transaction, within fifteen days of the date of this publication, to the Associate Administrator for Investment and Innovation, U.S. Small Business Administration, 409 Third Street SW, Washington, DC 20416.

Bailey DeVries,
Associate Administrator, Office of Investment and Innovation.

[FR Doc. 2021-25712 Filed 11-23-21; 8:45 am]

BILLING CODE P